DEPARTMENT OF THE INTERIOR

National Park Service

[NPS-ARCH-DTS 31211; PPIMCANYA0 PPMPSAS1Z.Y00000 211]

Written Determination: Bicycle Use on Visitor Center Connector Trail at Arches National Park

AGENCY: National Park Service, Interior.

ACTION: Notice.

SUMMARY: The National Park Service determines that allowing bicycles on the newly constructed Visitor Center Connector Trail at Arches National Park is consistent with the protection of the Park's natural, scenic and aesthetic values, safety considerations and management objectives and will not disturb wildlife or Park resources.

DATES: Comments on this written determination must be received by 11:59 MST on February 22, 2021.

ADDRESSES: You may submit comments by either of the following methods:

(1) Electronically: Visit https://parkplanning.nps.gov/arch and click on the link entitled “Open for Comment”.

(2) By hard copy: Mail to Park Superintendent, Arches National Park, 2282 S West Resource Blvd., Moab, UT 84532.

Document Availability: The Visitor Center Connector Trail Environmental Assessment and Finding of No Significant Impact provide information and context for this written determination and are available at: https://parkplanning.nps.gov/documentsList.cfm?projectID=92060.

FOR FURTHER INFORMATION CONTACT: Patricia Trap, Superintendent, Arches National Park, (435) 719-2101, patricia_trap@nps.gov.

SUPPLEMENTARY INFORMATION:

Background

The National Park Service (NPS) developed an Environmental Assessment (EA) that analyzed the impacts of allowing bicycles on a newly constructed 0.26-mile-long paved path (Visitor Center Connector Trail) that connects a shared use path outside the Arches National Park (Park) boundary to the Arches Visitor Center. Published on January 13, 2020, the EA presented two alternatives for the Park and identified the alternative that would allow bicycle use on the path as the NPS preferred alternative. The Regional Director for Interior Regions 6, 7, and 8 signed a Finding of No Significant Impact (FONSI) on May 13, 2020 that identified the preferred alternative (Alternative 2) in the EA as the selected alternative.

Prior to designating an existing trail in a developed area for bicycle use, NPS regulations at 36 CFR 4.30 require a written determination that such use is consistent with the protection of the Park's natural, scenic, and aesthetic values, safety considerations and management objectives, and will not disturb wildlife or Park resources. After the 30-day public review period for this written determination and consideration of the comments submitted, the NPS Regional Director will evaluate whether to approve the written determination. If the written determination is approved by the Regional Director, the Superintendent may designate the trail for bicycle use and will provide notice of such designation under 36 CFR 1.7.

Written Determination

Park Significance, Purpose and Values

In 1929, Arches National Monument was established by Presidential Proclamation 1875 to protect extraordinary examples of wind erosion in the form of gigantic arches, natural bridges, windows, spires, balanced rocks, and other unique wind-worn sandstone formations. The Monument was enlarged in 1938 by Presidential Proclamation to include protection of prehistoric structures of historic and scientific interest. The Monument was enlarged two more times in 1960 by Presidential Proclamation 3360 and in 1969 by Presidential Proclamation 3887 stating that it would be “in the public interest to add to Arches certain contiguous lands on which outstanding geological features of great scientific interest are situated and certain other lands adjacent to the monument which are essential to the proper care, management, and protection of the objects of scientific interest situated on such lands and on lands now comprising a part of the monument.” In 1971, an act of Congress (Pub. L. 92-155) changed the designation of the area from a National Monument to a National Park and slightly reduced the total acreage of the Park. More recently, in 1998, the Park was enlarged again by an act of Congress (Pub. L. 105-329). Today, the Park encompasses 76,679 acres in southeastern Utah and receives over 1.5 million annual visitors.

A formal statement of the purpose and significance of the Park is set forth in the 2013 Foundation Document. This document establishes the resources and values that warrant designation of the site as a unit of the National Park System. The purpose of the Park is to protect extraordinary examples of geologic features including arches, natural bridges, windows, spires, balanced rocks, as well as other features of geologic, historic, and scientific interest and to provide opportunities to experience these resources and their associated values in their majestic natural settings.

The Foundation Document also identifies the fundamental resources and values that warrant primary consideration during planning and management because they are critical to achieving the Park's purpose and maintaining its significance. The fundamental resources and values for the Park include geologic resources, clean air and scenic vistas, Colorado Plateau ecosystems, cultural features, and collaborative conservation, science, and scholarship.

Management Objectives

The Park's General Management Plan (GMP), completed in 1989, provides guidance for managing the Park during its development. It identifies recreational activities appropriate for different experience zones in the Park. Bicycle touring is listed as appropriate in the front country sightseeing zone; this zone encompasses the entrance road, visitor center, main scenic drive and associated pull-outs, and all paved parking areas. Additionally, the GMP outlines five interpretive themes, one of which includes safety. When the Park entrance road was expanded in 2017, it did not include a shoulder lane nor a separate lane for bicyclists or pedestrians. Bicyclists accessing the Park from the nearby town of Moab, Utah ride on a shared use path for two miles from the trail hub in town and then exit the path and enter the Park along the narrow and unsafe shoulder of the 0.625-mile-long entrance road. Allowing bicycle use on the newly constructed Visitor Center Connector Trail would meet the Park's management objective to provide safe and enjoyable recreational experiences for Park visitors as they access and leave the entrance area.

Wildlife and Park Resources

The location of the Visitor Center Connector Trail is adjacent to the Park boundary, park entrance road, and US Route 191. This area has high levels of disturbance due to its proximity to a busy state highway and to the entrance road. The EA evaluated the potential impacts to Park resources from allowing bicycles on the trail and determined that this would have no significant impacts nor impair Park resources or values. Given the moderate and highly mobile nature of the majority of wildlife species in the area, the already disturbed nature of the area, and the narrow footprint of the trail, NPS concluded that the use of bicycles on the trail would not disturb wildlife. The NPS expects that wildlife encountering bicycles on the trail would disperse into more protected areas within the Park where there is preferential habitat.

Natural, Scenic and Aesthetic Values

Bicycle use on the trail would not affect the Park's natural, scenic or aesthetic values because this activity would occur next to a busy road along an old transportation corridor (old entrance road) and directly adjacent to the existing Park entrance road. The area is already subject to visual impacts and noise from US Route 191 and Park operations. As a result, bicyclists would not substantially contribute to the existing impacts of human-caused sounds and sights in the area. Incremental effects would be negligible.

Safety Considerations

The trail was constructed in accordance with national guidelines for shared use paths and therefore is well suited for bicycle use. It has an asphalt running surface (2″ asphalt travel surface over 6″ of imported base), a minimum path width of ten feet with a two-foot shoulder, a five percent maximum running slope grade, and a safety railing adjacent to steep slopes. Signage will be installed to warn trail users of safety hazards. The trail would provide a much safer alternative for bicyclists who now must enter the Park on the narrow shoulder of the entrance road. The NPS will monitor activities on the trail and make safety-related adjustments, as needed.

Determination

Based upon the foregoing, the NPS determines that bicycle use on the Visitor Center Connector Trail is consistent with the protection of the Park's natural, scenic, and aesthetic values, safety considerations, and management objectives and will not disturb wildlife or Park resources.

Patricia S. Trap,
Superintendent.

[FR Doc. 2021-01358 Filed 1-19-21; 8:45 am]

BILLING CODE 4310-52-P